DEPARTMENT OF COMMERCE

International Trade Administration

[A-570-010, C-570-011]

Certain Crystalline Silicon Photovoltaic Products From the People's Republic of China: Antidumping Duty Order; and Amended Final Affirmative Countervailing Duty Determination and Countervailing Duty Order

AGENCY: Enforcement and Compliance, International Trade Administration, Department of Commerce.

SUMMARY: Based on affirmative final determinations by the Department of Commerce (the Department) and the International Trade Commission (the ITC), the Department is issuing antidumping duty (AD) and countervailing duty (CVD) orders on certain crystalline silicon photovoltaic products (certain solar products) from the People's Republic of China (the PRC). Also, as explained in this notice, the Department is amending its final affirmative CVD determination to correct an error regarding the inclusion of a subsidy program that was not properly reflected on the record of the CVD investigation.

DATES: Effective Date: February 18, 2015.

FOR FURTHER INFORMATION CONTACT: Jeff Pedersen at (202) 482-2769 or Thomas Martin at (202) 482-3936 (AD); or Gene Calvert at (202) 482-3586 or Justin Neuman at (202) 482-0486 (CVD), AD/CVD Operations, Enforcement and Compliance, International Trade Administration, U.S. Department of Commerce, 14th Street and Constitution Avenue NW., Washington, DC 20230.

SUPPLEMENTARY INFORMATION:

Background

On December 23, 2014, the Department published its affirmative final determination of sales at less than fair value (LTFV) in the AD investigation of certain solar products from the PRC,¹ and its final affirmative determination that countervailable subsidies are being provided to producers and exporters of certain solar products from the PRC.² On February 5, 2015, the ITC notified the Department of its final determination pursuant to sections 735(d) and 705(d) of the Tariff Act of 1930, as amended (the Act), that an industry in the United States is materially injured within the meaning of sections 735(b)(1)(A)(i) and 705(b)(1)(A)(i) of the Act by reason of LTFV imports and subsidized imports of subject merchandise from the PRC.³

¹ See Certain Crystalline Silicon Photovoltaic Products From the People's Republic of China: Final Determination of Sales at Less Than Fair Value, 79 FR 76970 (December 23, 2014).

² See Countervailing Duty Investigation of Certain Crystalline Silicon Photovoltaic Products From the People's Republic of China: Final Affirmative Countervailing Duty Determination, 79 FR 76962 (December 23, 2014) (CVD Final Determination).

³ See the ITC Notification Letter to the Deputy Assistant Secretary for Enforcement and Compliance referencing ITC Investigation Nos. 701-TA-511 and 731-TA-1246-1247 (February 5, 2015).

Scope of the Orders

The merchandise covered by these orders are modules, laminates and/or panels consisting of crystalline silicon photovoltaic cells, whether or not partially or fully assembled into other products, including building integrated materials. For purposes of these orders, subject merchandise includes modules, laminates and/or panels assembled in the PRC consisting of crystalline silicon photovoltaic cells produced in a customs territory other than the PRC.

Subject merchandise includes modules, laminates and/or panels assembled in the PRC consisting of crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Excluded from the scope of these orders are thin film photovoltaic products produced from amorphous silicon (a-Si), cadmium telluride (CdTe), or copper indium gallium selenide (CIGS). Also excluded from the scope of these orders are modules, laminates and/or panels assembled in the PRC, consisting of crystalline silicon photovoltaic cells, not exceeding 10,000 mm² in surface area, that are permanently integrated into a consumer good whose function is other than power generation and that consumes the electricity generated by the integrated crystalline silicon photovoltaic cells. Where more than one module, laminate and/or panel is permanently integrated into a consumer good, the surface area for purposes of this exclusion shall be the total combined surface area of all modules, laminates and/or panels that are integrated into the consumer good. Further, also excluded from the scope of these orders are any products covered by the existing antidumping and countervailing duty orders on crystalline silicon photovoltaic cells, whether or not assembled into modules, laminates and/or panels, from the PRC.⁴

⁴ See Crystalline Silicon Photovoltaic Cells, Whether or Not Assembled Into Modules, From the People's Republic of China: Amended Final Determination of Sales at Less Than Fair Value, and Antidumping Duty Order, 77 FR 73018 (December 7, 2012); Crystalline Silicon Photovoltaic Cells, Whether or Not Assembled Into Modules, From the People's Republic of China: Countervailing Duty Order, 77 FR 73017 (December 7, 2012).

Merchandise covered by these orders is currently classified in the Harmonized Tariff Schedule of the United States (HTSUS) under subheadings 8501.61.0000, 8507.20.8030, 8507.20.8040, 8507.20.8060, 8507.20.8090, 8541.40.6020, 8541.40.6030 and 8501.31.8000. These HTSUS subheadings are provided for convenience and customs purposes; the written description of the scope of these orders is dispositive.

Amendment to the CVD Final Determination

On December 23, 2014, the Department published its affirmative final determination in the CVD investigation.⁵ On December 24, 2014, Changzhou Trina Solar Energy Co., Ltd. (Trina Solar) and Wuxi Suntech Power Co., Ltd. (Wuxi Suntech), respondents in the CVD investigation, submitted timely ministerial error allegations and requested that the Department correct the alleged ministerial errors in the subsidy margin calculations.⁶ On December 29, 2014, SolarWorld Americas, Inc., the petitioner in the CVD investigation, submitted timely rebuttal comments on Trina Solar's and Wuxi Suntech's allegations.⁷ No other interested party submitted ministerial error allegations or replied to Trina Solar's or Wuxi Suntech's submissions.

⁵ See CVD Final Determination.

⁶ See the Letter to the Secretary from Trina Solar, “Certain Crystalline Silicon Photovoltaic Products from the People's Republic of China: Ministerial Errors Allegation,” (December 24, 2014); see also the Letter to the Secretary from Wuxi Suntech, “Certain Crystalline Silicon Photovoltaic Products from the People's Republic of China: Ministerial Error Comments of Wuxi Suntech Power Co., Ltd.,” (December 24, 2014).

⁷ See the Letter to the Secretary, “Crystalline Silicon Photovoltaic Products from the People's Republic of China: Response to Trina's Ministerial Error Allegation,” (December 29, 2014); see also the Letter to the Secretary, “Crystalline Silicon Photovoltaic Products from the People's Republic of China: Response to Suntech's Ministerial Error Comments,” (December 29, 2014).

After analyzing comments and rebuttals from all interested parties, we determined, in accordance with section 705(e) of the Act and 19 CFR 351.224(e), that we made a ministerial error in our calculations for the CVD Final Determination with respect to Trina Solar. At the verification of Trina Solar's questionnaire responses, we discovered unreported subsidy programs in Trina Solar's accounting system. We translated certain line items from that accounting system at verification and found that every translated line item represented a countervailable subsidy in our CVD Final Determination. In so doing, we inadvertently countervailed a subsidy program that did not appear among the list of translated subsidy programs submitted as a verification exhibit.⁸ This amended final CVD determination corrects this error and revises the ad valorem subsidy rate for Trina Solar.

⁸ For a detailed discussion of all alleged ministerial errors, as well as the Department's analysis, see the memorandum, “Amended Final Determination in the Countervailing Duty Investigation of Certain Crystalline Silicon Photovoltaic Products from the People's Republic of China: Ministerial Error Allegations,” (February 6, 2015) (Ministerial Error Memorandum).

In the CVD Final Determination, we based the estimated subsidy rate for “all others” by calculating the simple average of Trina Solar's and Wuxi Suntech's estimated subsidy rates.⁹ Because the subsidy rate for all others is based on the rates for Trina Solar and Wuxi Suntech, and the rate for Trina Solar changed because of the aforementioned ministerial error, we have revised the calculation for the estimated subsidy rate for all others in this amended final CVD determination.¹⁰ The amended estimated ad valorem subsidy rates are provided below.

⁹ See CVD Final Determination, 79 FR at 76964.

¹⁰ See Ministerial Error Memorandum at 10.

Antidumping Duty Order

As stated above, on February 5, 2015, in accordance with section 735(d) of the Act, the ITC notified the Department of its final determination in its investigation, in which it found that an industry in the United States is materially injured within the meaning of section 735(b)(1)(A)(i) of the Act by reason of imports of certain solar products from the PRC.¹¹ Because the ITC determined that imports of certain solar products from the PRC are materially injuring a U.S. industry, unliquidated entries of such merchandise from the PRC, entered or withdrawn from warehouse, for consumption are subject to the assessment of antidumping duties.

¹¹ See ITC Determination.

Therefore, in accordance with section 736(a)(1) of the Act, the Department will direct U.S. Customs and Border Protection (CBP) to assess, upon further instruction by the Department, antidumping duties equal to the amount by which the normal value of the merchandise exceeds the export price (or constructed export price) of the merchandise, for all relevant entries of certain solar products from the PRC. These antidumping duties will be assessed on unliquidated entries of certain solar products from the PRC entered, or withdrawn from warehouse, for consumption on or after July 31, 2014, the date of publication of the AD Preliminary Determination,¹² but will not include entries occurring after the expiration of the provisional measures period and before publication of the ITC's final injury determination as further described below.

¹² See Certain Crystalline Silicon Photovoltaic Products From the People's Republic of China: Affirmative Preliminary Determination of Sales at Less Than Fair Value and Postponement of Final Determination, 79 FR 44399 (July 31, 2014) (AD Preliminary Determination).

Continuation of Suspension of Liquidation (AD)

In accordance with section 735(c)(1)(B) of the Act, the Department will instruct CBP to continue to suspend liquidation of all appropriate entries of certain solar products from the PRC as described in the “Scope of the Orders” section, which were entered, or withdrawn from warehouse, for consumption on or after July 31, 2014, the date of publication in the Federal Register of the notice of an affirmative preliminary determination that certain solar products are being, or are likely to be, sold in the United States at LTFV. Further, consistent with our practice, where the product from the PRC under investigation is also subject to a concurrent CVD investigation, the Department will instruct CBP to require a cash deposit ¹³ equal to the weighted-average amount by which the normal value exceeds U.S. price, adjusted where appropriate for export subsidies and estimated domestic subsidy pass-through.¹⁴ The cash deposit rates, before any adjustments for export subsidies and estimated domestic subsidy pass-through, are as follows: (1) For each exporter/producer combination listed in the table below, the cash deposit rate will be equal to the dumping margin listed for that exporter/producer combination in the table; (2) for all other combinations of PRC exporters/producers of the merchandise under consideration, the cash deposit rate will be equal to the dumping margin established for the PRC-wide entity; and (3) for all non-PRC exporters of the merchandise under consideration which have not received their own separate rate above, the cash deposit rate will be equal to the cash deposit rate applicable to the PRC exporter/producer combination that supplied that non-PRC exporter. These suspension-of-liquidation instructions will remain in effect until further notice.

¹³ See Modification of Regulations Regarding the Practice of Accepting Bonds During the Provisional Measures Period in Antidumping and Countervailing Duty Investigations, 76 FR 61042 (October 3, 2011).

¹⁴ See sections 772(c)(1)(C) and 777A(f) of the Act.

Accordingly, effective on the date of publication of the ITC's final affirmative injury determination, CBP will require, at the same time as importers would normally deposit estimated duties on this subject merchandise, a cash deposit equal to the estimated weighted-average dumping margins indicated below, adjusted, where appropriate, for export subsidies and estimated domestic subsidy pass-through, as discussed above.¹⁵

¹⁵ With respect to the final affirmative countervailing duty determination in the companion investigation, because the provisional measures period has expired, the Department will only order the resumption of the suspension of liquidation, and require cash deposits for countervailing duties equal to the final subsidy rates, upon issuance of a final affirmative injury determination by the ITC. As a result, the Department will make an adjustment to AD cash deposits, where appropriate, for export subsidies and estimated domestic subsidy pass-through as of the date of publication of the ITC's final affirmative injury determination.

Provisional Measures (AD)

Section 733(d) of the Act states that instructions issued pursuant to an affirmative preliminary determination in an AD investigation may not remain in effect for more than four months except where exporters representing a significant proportion of exports of the subject merchandise request the Department to extend that four-month period to no more than six months. At the request of exporters that account for a significant proportion of certain solar products from the PRC, we extended the four-month period to no more than six months in this case.¹⁶ As stated above, in the investigation covering certain solar products from the PRC, the Department published the preliminary determination in the AD investigation on July 31, 2014. Therefore, the six-month period beginning on the date of publication of the preliminary determination in the AD investigation ended on January 27, 2015. Furthermore, section 737(b) of the Act states that definitive duties are to begin on the date of publication of the ITC's final injury determination.

¹⁶ See AD Preliminary Determination, 79 FR at 44396.

Therefore, in accordance with section 733(d) of the Act and our practice, we will instruct CBP to terminate the suspension of liquidation and to liquidate, without regard to antidumping duties, unliquidated entries of certain solar products from the PRC, entered, or withdrawn from warehouse, for consumption on or after January 27, 2015, the date the provisional measures expired, until and through the day preceding the date of publication of the ITC's final injury determination in the Federal Register.

Estimated Weighted-Average Dumping Margins

The estimated weighted-average dumping margins are as follows:

Exporter | Producer | Weighted-average dumping margin (percent)
Changzhou Trina Solar Energy Co., Ltd./Trina Solar (Changzhou) Science & Technology Co., Ltd | Changzhou Trina Solar Energy Co., Ltd./Trina Solar (Changzhou) Science & Technology Co., Ltd | 26.71
Renesola Jiangsu Ltd./Renesola Zhejiang Ltd./Jinko Solar Co. Ltd./Jinko Solar Import and Export Co., Ltd | Renesola Jiangsu Ltd./Jinko Solar Co. Ltd | 78.42
Anji DaSol Solar Energy Science & Technology Co., Ltd | Anji DaSol Solar Energy Science & Technology Co., Ltd | 52.13
Asun Energy Co., Ltd. (a/k/a Suzhou Asun Energy Co., Ltd.) | Asun Energy Co., Ltd. (a/k/a Suzhou Asun Energy Co., Ltd.) | 52.13
Baoding Tianwei Yingli New Energy Resources Co. , Ltd | Baoding Tianwei Yingli New Energy Resources Co., Ltd., Yingli Energy (China) Co., Ltd., and Lixian Yingli New Energy Co., Ltd | 52.13
BYD (Shangluo) Industrial Co., Ltd | BYD (Shangluo) Industrial Co., Ltd | 52.13
Canadian Solar International Limited | Canadian Solar Manufacturing (Luoyang) Inc., Canadian Solar Manufacturing (Changshu), Inc | 52.13
Canadian Solar Manufacturing (Changshu), Inc | Canadian Solar Manufacturing (Changshu), Inc | 52.13
Canadian Solar Manufacturing (Luoyang) Inc | Canadian Solar Manufacturing (Luoyang) Inc | 52.13
CEEG Nanjing Renewable Energy Co., Ltd | CEEG Nanjing Renewable Energy Co., Ltd | 52.13
Changzhou Almaden Co., Ltd | Changzhou Almaden Co., Ltd | 52.13
Chint Solar (Zhejiang) Co., Ltd | Chint Solar (Zhejiang) Co., Ltd | 52.13
ET Solar Industry Limited | ET Solar Industry Limited | 52.13
Hainan Yingli New Energy Resources Co. Ltd | Hainan Yingli New Energy Resources Co. Ltd | 52.13
Hangzhou Zhejiang University Sunny Energy Science and Technology Co., Ltd | Hangzhou Zhejiang University Sunny Energy Science and Technology Co., Ltd | 52.13
Hanwha SolarOne (Qidong) Co., Ltd | Hanwha SolarOne (Qidong) Co., Ltd | 52.13
Hanwha SolarOne Hong Kong Limited | Hanwha SolarOne (Qidong) Co., Ltd | 52.13
Hefei JA Solar Technology Co., Ltd | Hefei JA Solar Technology Co., Ltd | 52.13
Hengdian Group DMEGC Magnetics Co., Ltd | Hengdian Group DMEGC Magnetics Co., Ltd | 52.13
Hengshui Yingli New Energy Resources Company Limited | Hengshui Yingli New Energy Resources Company Limited | 52.13
Jiangyin Hareon Power Co., Ltd | Jiangyin Xinhui Solar Co., Ltd.; Altusvia Energy Taicang Co., Ltd.; Hareon Solar Technology Co., Ltd | 52.13
Jiawei Solarchina Co., Ltd | Jiawei Solarchina (Shenzhen) Co., Ltd | 52.13
Jiawei Technology (HK) Ltd | Shenzhen Jiawei Photovoltaic Lighting Co. Ltd | 52.13
LDK Solar Hi-Tech (Nanchang) Co., Ltd | LDK Solar Hi-Tech (Nanchang) Co., Ltd | 52.13
Lixian Yingli New Energy Company Ltd | Lixian Yingli New Energy Company Ltd | 52.13
MOTECH (Suzhou) Renewable Energy Co., Ltd | MOTECH (Suzhou) Renewable Energy Co., Ltd | 52.13
Ningbo Qixin Solar Electrical Appliance Co., Ltd | Ningbo Qixin Solar Electrical Appliance Co., Ltd | 52.13
Perlight Solar Co., Ltd | Perlight Solar Co., Ltd | 52.13
Risen Energy Co., Ltd | Risen Energy Co., Ltd | 52.13
Shanghai JA Solar Technology Co., Ltd | Shanghai JA Solar Technology Co., Ltd | 52.13
Shanghai Solar Energy Science & Technology Co., Ltd | Lianyungang Shenzhou New Energy Co., Ltd | 52.13
Shenzhen Jiawei Photovoltaic Lighting Co. Ltd | Shenzhen Jiawei Photovoltaic Lighting Co. Ltd | 52.13
Shenzhen Sungold Solar Co., Ltd | Shenzhen Sungold Solar Co., Ltd | 52.13
Shenzhen Topray Solar Co., Ltd | Shenzhen Topray Solar Co., Ltd | 52.13
Sun Earth Solar Power Co., Ltd | Sun Earth Solar Power Co., Ltd | 52.13
Sunny Apex Development Ltd | Shenzhen Jiawei Photovoltaic Lighting Co. Ltd., Wuhan FYY Technology Co., Ltd | 52.13
SunPower Systems SARL | SunEnergy (S.Z.) Co., Ltd | 52.13
tenKsolar (Shanghai) Co., Ltd | tenKsolar (Shanghai) Co., Ltd | 52.13
Upsolar Global Co., Ltd. and including Upsolar Group, Co., Ltd | Shandong Dahai Group Co. Ltd | 52.13
Wanxiang Import & Export Co., Ltd | Zhejiang Wanxiang Solar Co., Ltd | 52.13
Wuhan FYY Technology Co., Ltd | Wuhan FYY Technology Co., Ltd | 52.13
Wuxi Suntech Power Co., Ltd | Wuxi Suntech Power Co., Ltd | 52.13
Yingli Energy (China) Company Limited | Yingli Energy (China) Company Limited, Baoding Tianwei Yingli New Energy Resources Co. , Ltd. and Lixian Yingli New Energy Co. , Ltd | 52.13
Yingli Green Energy International Trading Limited | Yingli Energy (China) Company Limited, Baoding Tianwei Yingli New Energy Resources Co., Ltd., and Hainan Yingli New Energy Resources Co., Ltd | 52.13
Zhongli Talesun Solar Co., Ltd | Zhongli Talesun Solar Co., Ltd | 52.13
PRC-Wide Rate | 165.04

Countervailing Duty Order

As stated above, on February 5, 2015, in accordance with section 705(d) of the Act, the ITC notified the Department of its final determination in this investigation, in which it found that an industry in the United States is materially injured within the meaning of section 705(b)(1)(A)(i) of the Act by reason of imports of certain solar products from the PRC.¹⁷

¹⁷ See ITC Determination.

Therefore, in accordance with section 706(a) of the Act, the Department will direct CBP to assess, upon further instruction by the Department, countervailing duties equal to the amounts listed below for all relevant entries of certain solar products from the PRC. These countervailing duties will be assessed on unliquidated entries of certain solar products from the PRC entered, or withdrawn from warehouse, for consumption on or after June 10, 2014, the date of publication of the CVD Preliminary Determination,¹⁸ and before October 8, 2014, the date on which the Department instructed CBP to discontinue the suspension of liquidation in accordance with section 703(d) of the Act. Section 703(d) of the Act states that the suspension of liquidation pursuant to a preliminary determination may not remain in effect for more than four months. Entries of certain solar products from the PRC made on or after October 8, 2014, and prior to the date of publication of the ITC's final determination in the Federal Register are not liable for the assessment of countervailing duties, due to the Department's discontinuation, effective October 8, 2014, of the suspension of liquidation.

¹⁸ See Certain Crystalline Silicon Photovoltaic Products From the People's Republic of China: Preliminary Affirmative Countervailing Duty Determination, 79 FR 33174 (June 10, 2014) (CVD Preliminary Determination).

Suspension of Liquidation (CVD)

In accordance with section 706 of the Act, we will instruct CBP to reinstitute the suspension of liquidation on all relevant entries of certain solar products from the PRC. We will also instruct CBP to require cash deposits equal to the amounts indicated below. These instructions suspending liquidation will remain in effect until further notice. Accordingly, effective on the date of publication of the ITC's final affirmative injury determination, CBP will require, at the same time as importers would normally deposit estimated duties on this subject merchandise, cash deposits equal to the amounts indicated below: ¹⁹

¹⁹ See section 706(a)(3) of the Act.

Company | Subsidy rate (percent) (ad valorem)
Wuxi Suntech Power Co., Ltd | 27.64
Changzhou Trina Solar Energy Co., Ltd | 49.21
All Others | 38.43

Notifications to Interested Parties

This notice constitutes the antidumping duty and countervailing duty orders with respect to certain solar products from the PRC pursuant to sections 736(a) and 706(a) of the Act. Interested parties can find an updated list of orders currently in effect by either visiting http://enforcement.trade.gov/stats/iastats1.html or by contacting the Department's Central Records Unit, Room 7046 of the main Commerce Building.

These orders and the amended CVD Final Determination are published in accordance with sections 705(e), 706(a), 736(a), and 777(i) of the Act, and 19 CFR 351.211(b) and 351.224(e).

Dated: February 10, 2015.
Paul Piquado,
Assistant Secretary for Enforcement and Compliance.

[FR Doc. 2015-03183 Filed 2-17-15; 8:45 am]

BILLING CODE 3510-DS-P